DEPARTMENT OF ENERGY

Federal Energy Regulatory Commission

[Docket No. RP01-205-003]

Southern Natural Gas Company; Notice of Negotiated Rate Filing

October 25, 2002.

Take notice that on October 21, 2002, Southern Natural Gas Company (Southern) tendered for filing its Negotiated Rate Tariff Filing.

Southern's filing requests that the Commission approve a negotiated rate arrangement between Southern and SCANA Resources, Inc. (SCANA). On September 20, 2002, in Docket Nos. CP02-1-000 and CP02-1-001, the Commission approved, subject to conditions, Southern's South System II Expansion Project (South System II Order). In the South System II Order, the Commission stated, “although SCANA will initially pay Southern's maximum tariff rate, other aspects of SCANA's rate are negotiated to amounts other than those provided in the tariff. Accordingly, we find it appropriate for Southern to file the SCANA contract as a negotiated rate agreement, putting forward all the particulars of the rate so that customers who believe they are similarly situated may seek a similar rate with Southern.”

In accordance with the South System II Order, Southern files herewith the SCANA FT Agreement. Southern requests that the Commission grant such approval effective the date facilities are completed and placed in service.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Magalie R. Salas,
Secretary.

[FR Doc. 02-27946 Filed 11-1-02; 8:45 am]

BILLING CODE 6717-01-P